DEPARTMENT OF DEFENSE

Department of the Air Force

Air Force Institute of Technology; Evaluation for Continued Accreditation

AGENCY: Department of the Air Force, (DOD).

ACTION: Notice of evaluation for continued accreditation.

SUMMARY: The Air Force Institute of Technology (AFIT) is seeking comments from the public about the Institute in preparation for its periodic evaluation by its regional accrediting agency. The Institute will undergo a comprehensive evaluation visit October 16-18, 2000, by a team representing the Commission on Institutions of Higher Education of the North Central Association of Colleges and Schools. The AFIT has been accredited by the Commission since 1960. The team will review the institution's ongoing ability to meet the Commission's Criteria for Accreditation and General Institutional Requirements.

DATES: All comments must be received by September 15, 2000.

ADDRESSES: The public is invited to submit comments regarding the Institute to: Public Comment on the Air Force Institute of Technology, Commission on Institutions of Higher Education, North Central Association of Colleges and Schools, 30 North LaSalle Street, Suite 2400, Chicago, IL 60602.

FOR FURTHER INFORMATION CONTACT: Dr. James M. Horner at 937-255-4808.

SUPPLEMENTARY INFORMATION: Comments must address substantive matters related to the quality of the institution or its academic programs. Comments must be in writing and signed comments cannot be treated as confidential.

Authority: 10 U.S.C. 9314.

Janet A. Long,
Air Force Federal Register Liaison Officer.

[FR Doc. 00-16218 Filed 6-26-00; 8:45 am]

BILLING CODE 5001-05-P